DEPARTMENT OF VETERANS AFFAIRS

Advisory Committee on the Readjustment of Veterans, Notice of Meeting

The Department of Veterans Affairs (VA) gives notice under Public Law 92-463 that a meeting of the Advisory Committee on the Readjustment of Veterans will be held February 7 and 8, 2002. This will be a regularly scheduled meeting for the purpose of reviewing the post-war readjustment needs of veterans and to evaluate the availability and effectiveness of VA programs to meet these needs. The meeting on both days will be held at The American Legion, Washington Office, 1608 K Street, NW, Washington, DC. The agenda on both days will commence at 8:30 a.m., and adjourn at 4:30 p.m.

The agenda for Thursday, February 7, will include a review of the activities and reported conclusions of the Under Secretary for Health (USH) Special Committee on PTSD. The Committee will also review areas of potential partnership with the USH's Committee regarding the effective treatment of traumatic stress disorders in veterans exposed to war-zone stressors while on active duty in the military.

On Friday, February 8, the Committee will review VA's activities in response to the terrorist attack against the World Trade Center in New York City. The Committee's focus will be on veterans' mental health needs in the wake of such attacks, VA's timely response to the readjustment needs of new eras of veterans engaged in the war against terrorism, and VA's role in homeland security and local community-based disaster response.

The agenda for both days will also include strategic planning sessions to formulate goals and objectives for the Committee field visit to VA facilities planned for later in the year. In addition, the Committee will formulate recommendations for inclusion in its annual report to Congress.

The meeting will be open to the public. Those who plan to attend or who have questions concerning the meeting may contact Alfonso R. Batres, Ph.D., M.S.S.W., Chief Readjustment Counseling Officer, Department of Veterans Affairs Headquarters Office at (202) 283-8967.

Dated: January 14, 2002.
By direction of the Secretary.
Nora E. Egan,
Committee Management Officer.

[FR Doc. 02-1740 Filed 1-23-02; 8:45 am]

BILLING CODE 8320-01-M